NUCLEAR REGULATORY COMMISSION

[Docket No. 50-368]

Entergy Operations, Inc., Arkansas Nuclear One, Unit 2; Notice of Availability of the Final Supplement 19 to the Generic Environmental Impact Statement for the License Renewal of Arkansas Nuclear One, Unit 2

Notice is hereby given that the U.S. Nuclear Regulatory Commission (Commission) has published a final plant-specific supplement to the Generic Environmental Impact Statement (GEIS), NUREG-1437, regarding the renewal of operating license NPF-6 for an additional 20 years of operation at Arkansas Nuclear One, Unit 2 (ANO-2). ANO-2 is located in Pope County, Arkansas, approximately 6 miles west-northwest of Russellville, Arkansas. Possible alternatives to the proposed action (license renewal) include no action and reasonable alternative energy sources.

In Section 9.3 of the final Supplement 19 to the GEIS, the staff concludes that based on: (1) The analysis and findings in the GEIS; (2) the environmental report submitted by Entergy; (3) consultation with Federal, State, and local agencies; (4) the staff's own independent review; and (5) the staff's consideration of public comments received during the environmental review, the staff recommends that the Commission determine that the adverse environmental impacts of license renewal for ANO-2, are not so great that preserving the option of license renewal for energy-planning decisionmakers would be unreasonable.

The final Supplement 19 to the GEIS is available for public inspection in the NRC Public Document Room (PDR) located at One White Flint North, 11555 Rockville Pike, Rockville, Maryland, or from the Publicly Available Records (PARS) component of NRC's Agencywide Documents Access and Management System (ADAMS). ADAMS is accessible from the NRC Web site at http://www.nrc.gov/reading-rm/adams.html (the Public Electronic Reading Room). Persons who do not have access to ADAMS, or who encounter problems in accessing the documents located in ADAMS, should contact the PDR reference staff at 1-800-397-4209, 301-415-4737, or by e-mail to pdr@nrc.gov. In addition, the Ross Pendergraft Library at Arkansas Tech University, 305 West Q Street, Russellville, Arkansas 72801, has agreed to make the final plant-specific supplement to the GEIS available for public inspection.

FOR FURTHER INFORMATION CONTACT: Mr. Thomas Kenyon, License Renewal and Environmental Impacts Program, Division of Regulatory Improvement Programs, U.S. Nuclear Regulatory Commission, Washington, DC 20555. Mr. Kenyon may be contacted at 301-415-1120 or TJK@nrc.gov.

Dated in Rockville, Maryland, this 7th day of April, 2005.
For the Nuclear Regulatory Commission.
Pao-Tsin Kuo,
Program Director, License Renewal and Environmental Impacts Program, Division of Regulatory Improvement Programs, Office of Nuclear Reactor Regulation.

[FR Doc. E5-1967 Filed 4-25-05; 8:45 am]

BILLING CODE 7590-01-P